DEPARTMENT OF HEALTH AND HUMAN SERVICES

Notice of Meeting of the Presidential Advisory Council on HIV/AIDS

Pursuant to Public Law 92-463, notice is hereby given of the meeting of the Presidential Advisory Council on HIV/AIDS (Council) scheduled for July 19, 2001, extending possibly into July 20th, 2001 at a downtown Washington, DC location to be determined. The meeting of the Presidential Advisory Council on HIV/AIDS will take place on Thursday, July 19th, 2001 (8:30 am to 6 pm). Once a draft agenda is prepared, if deemed necessary the meeting will continue on July 20th (8:30 am to 12 pm). The meetings will be open to the public, however space may be limited. Possible attendees are strongly encouraged to pre-register by calling Shellie Abramson at (202) 860-8863.

Greg Smiley, Designated Federal Official, Presidential Advisory Council on HIV and AIDS, 200 Independence Avenue, SW., Room 733-E, Washington, DC, (phone: (202) 205-1839, Fax: (202) 690-7560, E-mail: gsmiley@OSOPHS.dhhs.gov) will furnish the meeting agenda and roster of committee members upon request. Once a draft agenda has been finalized, it may also be accessed through the Council's website: www.pacha.gov. Any individual who requires special assistance, such as sign language interpretation or other reasonable accommodations, should contact Brand Rymph at (301) 986-4870 no later than July 12, 2001.

Greg Smiley,
Health Policy Analyst, Designated Federal Official,Presidential Advisory Council on HIV and AIDS.

[FR Doc. 01-16813 Filed 7-3-01; 8:45 am]

BILLING CODE 3195-01-M